AGENCY FOR INTERNATIONAL DEVELOPMENT

Notice of Public Information Collection Requirement Submitted to OMB for Review

SUMMARY: U.S. Agency for International Development (USAID) has submitted the following information collection to OMB for review and clearance under the Paperwork Reduction Act of 1995, Public Law 104-13. Comments regarding this information collection are best assured of having their full effect if received within 30 days of this notification. Comments should be addressed to: Desk Officer for USAID, Office of Information and Regulatory Affairs, Office of Management and Budget (OMB), Washington DC 20503. Copies of submission may be obtained by calling (202) 712-1365.

SUPPLEMENTARY INFORMATION: OMB Number: OMB 0412-0552.

Form Number: N/A.

Title: Financial Status Report.

Type of Submission: Renewal of Information Collection.

Purpose: USAID wants to continue to require expanded financial reporting from recipients of grant and cooperative agreements (CA) with places of performance covering multiple countries. Recipients would be required to provide financial reports with expenditure data by country. For assistance programs which cover programs in more than one country, USAID requires recipients to specify in the “remarks” section of SF-269 and SF-269A, or other applicable approved financial report form, by country, the amount of the total Federal share which was expended for each country. USAID has sought a class deviation to the statute from the Office of Management and Budget (OMB) in accordance with the 22 CFR 226.4. The information is being collected so that USAID may report to Congress, OMB, and other requestors per the requirements of the Government Performance and Results Act and the government Management Reporting Act. Also, the reporting requirements are necessary to ensure that USAID funds are expended in accordance with statutory requirements and USAID policies. USAID is seeking this waiver for a period of three years.

Annual Reporting Burden

Respondents: 118.

Total annual responses: 472.

Total annual hours requested: 800 hours.

Dated: May 17, 2001.
Joanne Paskar,
Chief, Information and Records Division, Office of Administrative Services, Bureau for Management.

[FR Doc. 01-13323 Filed 5-25-01; 8:45 am]

BILLING CODE 6116-01-M